DEPARTMENT OF TRANSPORTATION

Federal Aviation Administration

14 CFR Part 97

[Docket No. 31184; Amdt. No. 3791]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 29, 2018. The compliance date for each SIAP, associated Takeoff Minimums, and ODP is specified in the amendatory provisions.

The incorporation by reference of certain publications listed in the regulations is approved by the Director of the Federal Register as of March 29, 2018.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866;(2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on March 9, 2018.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 26 April 2018

Washington, DC, Ronald Reagan Washington National, LDA Z RWY 19, Amdt 3B

Washington, DC, Ronald Reagan Washington National, RNAV (GPS) RWY 15, Orig-A

Washington, DC, Ronald Reagan Washington National, RNAV (RNP) RWY 1, Amdt 1B

Effective 24 May 2018

Unalakleet, AK, Unalakleet, LOC RWY 15, Amdt 5

Unalakleet, AK, Unalakleet, RNAV (GPS) RWY 33, Amdt 1

Unalakleet, AK, Unalakleet, RNAV (GPS)-A, Amdt 1

Unalakleet, AK, Unalakleet, RNAV (GPS) Z RWY 33, Orig-A, CANCELED

Unalakleet, AK, Unalakleet, Takeoff Minimums and Obstacle DP, Amdt 2

Unalakleet, AK, Unalakleet, UNALAKLEET ONE, Graphic DP

Unalakleet, AK, Unalakleet, VOR-D, Amdt 6

Haleyville, AL, Posey Field, VOR/DME-A, Amdt 4A, CANCELED

Hamilton, AL, Marion County-Rankin Fite, VOR RWY 18, Amdt 5A, CANCELED

Prattville, AL, Prattville—Grouby Field, RNAV (GPS) RWY 27, Amdt 1

Vernon, AL, Lamar County, VOR/DME-A, Amdt 3, CANCELED

Rogers, AR, Rogers Executive—Carter Field, Takeoff Minimums and Obstacle DP, Amdt 1

San Diego/El Cajon, CA, Gillespie Field, RNAV (GPS) RWY 9L, Orig

Meriden, CT, Meriden Markham Muni, VOR RWY 36, Amdt 5

Millen, GA, Millen, NDB RWY 17, Orig-B, CANCELED

Gooding, ID, Gooding Muni, NDB RWY 25, Amdt 1A, CANCELED

Angola, IN, Tri-State Steuben County, RNAV (GPS) RWY 5, Orig-D

Angola, IN, Tri-State Steuben County, RNAV (GPS) RWY 23, Orig-C

Kendallville, IN, Kendallville Muni, RNAV (GPS) RWY 10, Orig-B

Kendallville, IN, Kendallville Muni, RNAV (GPS) RWY 28, Amdt 1B

Hugoton, KS, Hugoton Muni, RNAV (GPS) RWY 2, Orig-A

Hugoton, KS, Hugoton Muni, RNAV (GPS) RWY 20, Orig-A

Smith Center, KS, Smith Center Muni, VOR-A, Amdt 3

Flemingsburg, KY, Fleming-Mason, LOC RWY 25, Amdt 1A, CANCELED

Houlton, ME, Houlton Intl, VOR/DME RWY 5, Amdt 11B, CANCELED

Adrian, MI, Lenawee County, NDB RWY 5, Orig-A

Adrian, MI, Lenawee County, RNAV (GPS) RWY 5, Amdt 1A

Adrian, MI, Lenawee County, RNAV (GPS) RWY 23, Orig-A

Ann Arbor, MI, Ann Arbor Muni, Takeoff Minimums and Obstacle DP, Amdt 9A

Battle Creek, MI, W K Kellogg, RNAV (GPS) RWY 31, Amdt 1

Caro, MI, Tuscola Area, RNAV (GPS) RWY 6, Amdt 2

Caro, MI, Tuscola Area, RNAV (GPS) RWY 24, Amdt 2

Caro, MI, Tuscola Area, VOR-A, Amdt 7

Davison, MI, Athelone Williams Memorial, RNAV (GPS) RWY 8, Orig-A, CANCELED

Davison, MI, Athelone Williams Memorial, RNAV (GPS) RWY 26, Orig-A, CANCELED

Davison, MI, Athelone Williams Memorial, Takeoff Minimums and Obstacle DP, Amdt 2, CANCELED

Davison, MI, Athelone Williams Memorial, VOR RWY 8, Orig-D, CANCELED

Detroit/Grosse Ile, MI, Grosse Ile Muni, Takeoff Minimums and Obstacle DP, Amdt 5A

Detroit, MI, Detroit Metropolitan Wayne County, Takeoff Minimums and Obstacle DP, Amdt 1A

Gladwin, MI, Gladwin Zettel Memorial, RNAV (GPS) RWY 9, Orig-B

Hillsdale, MI, Hillsdale Muni, RNAV (GPS) RWY 28, Amdt 1

Hillsdale, MI, Hillsdale Muni, VOR-A, Amdt 8A, CANCELED

Howell, MI, Livingston County Spencer J. Hardy, Takeoff Minimums and Obstacle DP, Amdt 3A

Lambertville, MI, Toledo Suburban, RNAV (GPS)-A, Orig

Lambertville, MI, Toledo Suburban, VOR OR GPS-A, Amdt 7A, CANCELED

Monroe, MI, Custer, RNAV (GPS) RWY 3, Orig-A

Monroe, MI, Custer, RNAV (GPS) RWY 21, Orig-A

Monroe, MI, Custer, Takeoff Minimums and Obstacle DP, Amdt 6A

Monroe, MI, Custer, VOR RWY 21, Amdt 2, CANCELED

Pontiac, MI, Oakland County Intl, Takeoff Minimums and Obstacle DP, Amdt 6A

Ada/Twin Valley, MN, Norman County Ada/Twin Valley, RNAV (GPS) RWY 33, Orig-A

Raleigh/Durham, NC, Raleigh-Durham Intl, ILS OR LOC RWY 5R, Amdt 29

Raleigh/Durham, NC, Raleigh-Durham Intl, ILS OR LOC RWY 23L, Amdt 9

Raleigh/Durham, NC, Raleigh-Durham Intl, RNAV (GPS) Y RWY 5R, Amdt 3

Raleigh/Durham, NC, Raleigh-Durham Intl, RNAV (GPS) Y RWY 23L, Amdt 2

Toms River, NJ, Ocean County, RNAV (GPS) RWY 24, Amdt 1

Toms River, NJ, Ocean County, VOR RWY 24, Amdt 5

Gallup, NM, Gallup Muni, LOC RWY 6, Amdt 3C

Gallup, NM, Gallup Muni, VOR RWY 6, Amdt 8A

New York, NY, John F Kennedy Intl, COPTER RNAV (GPS) 027, Orig-C

New York, NY, John F Kennedy Intl, ILS OR LOC RWY 22R, Amdt 2B

Akron, OH, Akron-Canton Rgnl, ILS OR LOC RWY 1, Amdt 38A

Ashland, OH, Ashland County, VOR-A, Amdt 9D

Ashtabula, OH, Northeast Ohio Rgnl, VOR RWY 27, Amdt 7A

Ashtabula, OH, Northeast Ohio Rgnl, VOR-A, Orig-A

Bowling Green, OH, Wood County, RNAV (GPS) RWY 10, Orig-D

Bowling Green, OH, Wood County, RNAV (GPS) RWY 18, Orig-C

Bowling Green, OH, Wood County, RNAV (GPS) RWY 28, Orig-C

Bowling Green, OH, Wood County, RNAV (GPS) RWY 36, Orig-C

Bucyrus, OH, Port Bucyrus-Crawford County, RNAV (GPS) RWY 4, Orig-A

Bucyrus, OH, Port Bucyrus-Crawford County, RNAV (GPS) RWY 22, Orig-B

Bucyrus, OH, Port Bucyrus-Crawford County, VOR RWY 22, Amdt 5A

Cleveland, OH, Cleveland-Hopkins Intl, Takeoff Minimums and Obstacle DP, Amdt 16A

Cleveland, OH, Cuyahoga County, Takeoff Minimums and Obstacle DP, Amdt 1A

Defiance, OH, Defiance Memorial, RNAV (GPS) RWY 12, Amdt 1

Findlay, OH, Findlay, RNAV (GPS) RWY 7, Orig-B

Findlay, OH, Findlay, RNAV (GPS) RWY 18, Amdt 1A

Findlay, OH, Findlay, RNAV (GPS) RWY 25, Amdt 1A

Findlay, OH, Findlay, RNAV (GPS) RWY 36, Amdt 1B

Fostoria, OH, Fostoria Metropolitan, RNAV (GPS) RWY 27, Amdt 1B

Fostoria, OH, Fostoria Metropolitan, VOR-A, Amdt 4B

Fremont, OH, Fremont, RNAV (GPS) RWY 9, Orig-B

Fremont, OH, Fremont, VOR RWY 9, Amdt 6A, CANCELED

Fremont, OH, Sandusky County Rgnl, RNAV (GPS) RWY 6, Amdt 1A

Fremont, OH, Sandusky County Rgnl, RNAV (GPS) RWY 24, Amdt 1A

Galion, OH, Galion Muni, VOR RWY 23, Amdt 13B

Kenton, OH, Hardin County, RNAV (GPS) RWY 4, Orig-A

Kenton, OH, Hardin County, RNAV (GPS) RWY 22, Orig-A

Lorain/Elyria, OH, Lorain County Rgnl, RNAV (GPS) RWY 7, Orig-B

Lorain/Elyria, OH, Lorain County Rgnl, Takeoff Minimums and Obstacle DP, Orig-A

Mansfield, OH, Mansfield Lahm Rgnl, ILS OR LOC RWY 32, Amdt 17A

Mansfield, OH, Mansfield Lahm Rgnl, VOR RWY 14, Amdt 16A

Mansfield, OH, Mansfield Lahm Rgnl, VOR RWY 32, Amdt 7B

Medina, OH, Medina Muni, RNAV (GPS) RWY 9, Orig-C

Ottawa, OH, Putnam County, RNAV (GPS) RWY 9, Orig-A

Ottawa, OH, Putnam County, RNAV (GPS) RWY 27, Orig-A

Ottawa, OH, Putnam County, VOR RWY 27, Amdt 2B

Salem, OH, Salem Airpark Inc, Takeoff Minimums and Obstacle DP, Amdt 2

Wauseon, OH, Fulton County, RNAV (GPS) RWY 9, Orig-B

Willard, OH, Willard, VOR-A, Orig-B

Willoughby, OH, Willoughby Lost Nation Muni, NDB RWY 10, Amdt 10A

Willoughby, OH, Willoughby Lost Nation Muni, RNAV (GPS) RWY 5, Orig-A

Willoughby, OH, Willoughby Lost Nation Muni, RNAV (GPS) RWY 10, Orig-B

Willoughby, OH, Willoughby Lost Nation Muni, RNAV (GPS) RWY 23, Orig-B

Willoughby, OH, Willoughby Lost Nation Muni, RNAV (GPS) RWY 28, Orig-A

Willoughby, OH, Willoughby Lost Nation Muni, Takeoff Minimums and Obstacle DP, Amdt 3A

Zanesville, OH, Zanesville Muni, ILS OR LOC RWY 22, Amdt 1A

Holdenville, OK, Holdenville Muni, NDB RWY 17, Amdt 4A, CANCELED

Erie, PA, Erie Intl/Tom Ridge Field, ILS OR LOC RWY 6, Amdt 18A

Erie, PA, Erie Intl/Tom Ridge Field, RNAV (GPS) RWY 6, Amdt 1B

Mount Pocono, PA, Pocono Mountains Muni, RNAV (GPS) RWY 13, Amdt 3C

Mount Pocono, PA, Pocono Mountains Muni, RNAV (GPS) RWY 31, Amdt 2D

Perkasie, PA, Pennridge, RNAV (GPS) RWY 26, Orig-C

Philadelphia, PA, Philadelphia Intl, ILS OR LOC RWY 27R, ILS RWY 27R (SA CAT I), ILS RWY 27R (SA CAT II), Amdt 10H

Pittsburgh, PA, Pittsburgh Intl, RNAV (GPS) Y RWY 28C, Amdt 4C

Winnsboro, SC, Fairfield County, NDB RWY 4, Amdt 5, CANCELED

Amarillo, TX, Rick Husband Amarillo Intl, VOR/DME-A, Orig, CANCELED

Tyler, TX, Tyler Pounds Rgnl, RNAV (GPS) RWY 4, Amdt 3

Tyler, TX, Tyler Pounds Rgnl, Takeoff Minimums and Obstacle DP, Amdt 3

Renton, WA, Renton Muni, NDB RWY 16, Amdt 8, CANCELED

Moundsville, WV, Marshall County, RNAV (GPS) RWY 6, Orig-C

Philippi, WV, Philippi/Barbour County Rgnl, RNAV (GPS) RWY 26, Orig-A

Rescinded: On February 27, 2018 (83 FR 8334), the FAA published an Amendment in Docket No. 31179, Amdt No. 3787, to Part 97 of the Federal Aviation Regulations under section 97.37. The following entry for Buckland, AK, effective March 29, 2018, is hereby rescinded in its entirety:

Buckland, AK, Buckland, Takeoff Minimums and Obstacle DP, Amdt 2

[FR Doc. 2018-06008 Filed 3-28-18; 8:45 am]

BILLING CODE 4910-13-P